NATIONAL AERONAUTICS AND SPACE ADMINISTRATION

[Notice (08-031)]

Government-Owned Inventions, Available for Licensing

AGENCY: National Aeronautics and Space Administration.

ACTION: Notice of availability of inventions for licensing.

SUMMARY: The invention listed below assigned to the National Aeronautics and Space Administration, has been filed in the United States Patent and Trademark Office, and is available for licensing.

DATES: April 29, 2008.

FOR FURTHER INFORMATION CONTACT: Robert M. Padilla, Patent Counsel, Ames Research Center, Code 202A-4, Moffett Field, CA 94035-1000; telephone (650) 604-5104; fax (650) 604-2767.

NASA Case No. ARC-15995-1: Photogrammetric Recession Imaging Of An Ablating Surface.

Dated: April 23, 2008.
Keith T. Sefton,
Deputy General Counsel,Administration and Management.

[FR Doc. E8-9359 Filed 4-28-08; 8:45 am]

BILLING CODE 7510-13-P